DEPARTMENT OF EDUCATION

Notice of Proposed Information Collection Requests

AGENCY: Department of Education.

SUMMARY: The Acting Director, Information Collection Clearance Division, Regulatory Information Management Services, Office of Management, invites comments on the proposed information collection requests as required by the Paperwork Reduction Act of 1995.

DATES: Interested persons are invited to submit comments on or before May 14, 2010.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Acting Director, Information Collection Clearance Division, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: March 10, 2010.
James Hyler,
Acting Director, Information Collection Clearance Division, Regulatory Information Management Services, Office of Management.

Office of Elementary and Secondary Education

Type of Review: Revision.

Title: School Improvement Grants.

Frequency: Annually.

Affected Public: State, Local, or Tribal Gov't, SEAs or LEAs.

Reporting and Recordkeeping Hour Burden:

Responses: 3,102.

Burden Hours: 229, 800.

Abstract: On December 10, 2009, the U.S. Department of Education (Department) published final requirements and a State educational agency (SEA) application for School Improvement Grants (SIG) authorized under section 1003(g) of Title I of the Elementary and Secondary Education Act of 1965 (ESEA), as amended, and funded through the Department of Education Appropriations Act, 2009 (FY 2009) and the American Recovery and Reinvestment Act of 2009 (ARRA). On January 21, 2010, the Department published interim final requirements and a revised SEA application, which amended the final requirements and application issued in December. Together, these requirements are referred to in this document as “final requirements.”

The final requirements define the criteria that an SEA must use to award ARRA and FY 2009 SIG funds to local educational agencies (LEAs). In awarding these funds, an SEA must give priority to the LEAs with the lowest-achieving schools that demonstrate the greatest need for the funds and the strongest commitment to using the funds to provide adequate resources to their lowest-achieving schools eligible to receive services provided through SIG funds in order to raise substantially the achievement of the students attending those schools.

The final requirements also include information collection activities covered under the Paperwork Reduction Act (PRA). The activities consist of: (1) A new application for an SEA to submit to the Department to apply for FY 2009 and ARRA SIG funds; (2) the reporting of specific school-level data on the use of SIG funds and specific interventions implemented in LEAs receiving SIG funds that the Department currently does not collect through EDFacts; (3) an application for an LEA to submit to its SEA to receive SIG funds; and (4) the SEA posting its LEAs' applications.

The Department received emergency approval of the information collection activities through June 30, 2010 at the same time it issued the final requirements. The Office of Management and Budget (OMB) also approved a change to the collection at the time the Department issued the interim requirements in January. These approvals permitted the SEA application process to begin so that students in the lowest-achieving schools will begin receiving the assistance they need as soon as possible. The information collection activities in the final requirements will continue past June 30th, however. Therefore, the Department is requesting regular approval of the information collection activities.

Requests for copies of the proposed information collection request may be accessed from http://edicsweb.ed.gov, by selecting the “Browse Pending Collections” link and by clicking on link number 4242. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. 2010-5626 Filed 3-12-10; 8:45 am]

BILLING CODE 4000-01-P